DEPARTMENT OF TRANSPORTATION

Federal Motor Carrier Safety Administration

Privacy Act of 1974: System of Records

AGENCY: Federal Motor Carrier Safety Administration, DOT.

ACTION: Notice to establish a system of records.

SUMMARY: DOT intends to establish a system of records under the Privacy Act of 1974.

DATES: Effective Date: July 31, 2006. If no comments are received, the proposal will become effective on the above date. If comments are received, the comments will be considered and, where adopted, the documents will be republished with changes.

FOR FURTHER INFORMATION CONTACT: Kara Spooner, Department of Transportation, Office of the Secretary, 400 7th Street, SW., Washington, DC 20590, (202) 366-1965 (telephone), (202) 366-7373 (fax), kara.spooner@dot.gov (Internet address).

SUPPLEMENTARY INFORMATION: The Department of Transportation system of records notice subject to the Privacy Act of 1974 (5 U.S.C. 552a), as amended, has been published in the Federal Register and is available from the above mentioned address.

DOT/FMCSA 005

System name:

Electronic Document Management System (EDMS)

Security classification:

Unclassified, Sensitive

System location:

Department of Transportation, Volpe National Transportation Systems Center, 55 Broadway, Cambridge, MA 02142.

Categories of individuals covered by the system of records:

The input of information into EDMS is discretionary. Field users have been instructed to upload all compliance review, inspection and enforcement documents related to motor carriers generated after October 1, 2005, but some divisions have uploaded older documents in accordance with NARA's FMCSA Field Records Schedule in order to destroy paper copies of documents covered by the schedule. Use of the administrative (non-carrier related) sections of EDMS are also at the discretion of the Division/Field Administrator and may or may not contain certain types of information including, but not limited to, sensitive personnel documents such as Travel Vouchers (which include Social Security Numbers). Therefore, there is the potential for the following categories of individuals to be covered by this system:

• All owners of interstate commercial motor vehicle operations, active or inactive.

• All operators of interstate commercial motor vehicles, licensed or unlicensed.

• All FMCSA employees.

Operators and operators of interstate commercial motor vehicles; Federal Motor Carrier Safety Administration (FMCSA) employees.

Categories of records in the system:

The input of information into EDMS is discretionary. Field users have been instructed to upload all compliance review, inspection and enforcement documents related to motor carriers generated after October 1, 2005, but some divisions have uploaded older documents in accordance with NARA's FMCSA Field Records Schedule in order to destroy paper copies of documents covered by the schedule. Use of the administrative (non-carrier related) sections of EDMS are also at the discretion of the Division/Field Administrator and may or may not contain certain types of information including, but not limited to, sensitive personnel documents such as Travel Vouchers (which include Social Security Numbers). Therefore, there is the potential for the following categories of documents to reside in this system:

• Carrier Related Documents include, but are not limited to:

◦ Carrier Enforcement Case Documents.

◦ General Carrier Documents, including, but not limited to:

■ Compliance Reviews.

■ Correspondence, including e-mail.

■ Crash Reports.

■ Out of Service Orders.

■ Safety Audits.

◦ Carrier Receipt Documents.

◦ Driver Enforcement Case Documents, including, but not limited to:

■ Notice of Claim.

■ Receipts.

■ Correspondence, including e-mail.

■ Enforcement Cases.

■ Exhibits.

■ Final Agency Orders.

◦ Roadside Inspection Certification.

◦ Roadside Inspection Report.

• Administrative Documents including, but not limited to:

◦ Delegations of Authority.

◦ Non-personnel related Employee Documents.

◦ Federal Programs.

◦ Rules of Conduct.

◦ Employee Work Schedules.

◦ Time and Attendance Records.

◦ Congressional Correspondence.

◦ Suspicious Activity Reports.

• Management Documents including, but not limited to:

◦ Financial Management documents including, but not limited to:

■ Budgets.

■ Invoices.

■ Procurement Requests.

■ Property.

■ Purchase Card documents.

■ Purchase Orders.

■ Travel (Authorizations, Voucher and Receipts).

◦ Personnel Management documents including, but not limited to:

■ Performance Appraisals.

■ Award Nominations.

■ Position Descriptions.

■ Personnel Actions (SF-50).

■ Request for Personnel Actions (SF-52).

■ Telecommuting Agreements.

■ Within-Grade Step Increase documentation.

Authority for maintenance of the system:

49 U.S. C. 31136 (e), Motor Carrier Safety Act of 1984, 49 U.S.C. 31315, and the Transportation Equity Act for the 21st Century (TEA-21) which was enacted June 9, 1998 as Public Law 105-178.

Purposes:

To provide FMCSA personnel with a centralized document repository application for archiving and accessing documents relevant to FMCSA business processes. The mission of FMCSA is to improve the safety of commercial motor vehicles and save lives by enforcing the laws and regulations set forth to govern motor carrier operations. The business processes included in realizing this mission are the performance of compliance reviews and inspections on motor carrier operations and inspections of commercial motor vehicles, which may result in enforcement actions being taken against a motor carrier for failure to adhere to motor carrier laws and regulations. EDMS contains the documents related to these processes and allows all authorized users access to these documents in the performance of their duties.

EDMS is also used in the administrative process as a central repository in the operation of a specific office within FMCSA. Travel, procurement, budget and other administrative documents are housed in this system to support the migration to a “paperless” work environment.

Routine uses of records maintained in the system, including categories of users and the purposes of such uses:

See Prefatory Statement of General Routine Uses.

Disclosure to consumer reporting agencies:

None.

Policies and practices for storing, retrieving, accessing, retaining, and disposing of records in the system:

Storage:

Documents are stored on this system on a dedicated server. Metadata specific to each document is stored on a separate database server and is dynamically linked to each document.

Retrievability:

Records are retrievable by USDOT number, carrier census information (carrier name, DBA, address, etc.), Division, Service Center, Driver Name, Employee Name, Document Category, Document Date, Author, and Fiscal Year.

Safeguards:

The electronic records uploaded to EDMS are stored in one server on a secure web-based system. The index data associated with these documents is stored on a database server. Both of these servers are physically protected by virtue of the fact that they are housed in a limited-access controlled server room. The entire EDMS application is electronically safeguarded through the use of HTTPS and SSL (Secure Socket Links) and is accessible only to users within the FMCSA network, or from specific IP addresses of authorized contractors. All users of the system are required to obtain a user name through FMCSA Technical Support, the contractor support group which provides technical support to the majority of FMCSA Information Technology systems. All applications for accounts must first be approved by the FMCSA Organizational Coordinator for the area in which the user works. All requests are then reviewed by FMCSA Technical Support to ensure conformance with FMCSA's security standards. Once a user is approved, FMCSA Technical Support contacts the user via e-mail and requests that the user call FMCSA Technical Support to obtain their temporary password to the system. The temporary password is configured to expire and force the user to change his/her password upon first login attempt. All FMCSA employees are eligible for an account in EDMS, but access to certain libraries contained on the system is dependent upon the user's role.

Retention and disposal:

The files are retained and disposed of according to the FMCSA Field Records Schedule according to the National Archives and Records Administration, and FMCSA policy.

System Manager(s) and address:

Department of Transportation, Federal Motor Carrier Safety Administration, Office of Data Analysis and Information Systems, 400 7th Street, SW., Washington, DC 20590.

Notification procedure:

Same as “System Manager.”

Record access procedures:

Same as “System Manager.”

Contesting record procedures:

Same as “System Manager.”

Record source categories:

Same as “System Manager.”

Exemptions claimed for the system:

None.

OMB Control Number:

None.

Dated: June 15, 2006.
Kara Spooner,
Departmental Privacy Officer.

[FR Doc. E6-9732 Filed 6-20-06; 8:45 am]

BILLING CODE 4910-9X-P